DEPARTMENT OF ENERGY

National Commission on the BP Deepwater Horizon Oil Spill and Offshore Drilling

AGENCY: Department of Energy, Office of Fossil Energy.

ACTION: Notice of open meeting.

SUMMARY: This notice announces an open meeting of the National Commission on the BP Deepwater Horizon Oil Spill and Offshore Drilling (the Commission). The Commission was organized pursuant to the Federal Advisory Committee Act (Pub. L. 92-463, 86 Stat. 770) (the Act). The Act requires that agencies publish these notices in the Federal Register. The Charter of the Commission can be found at: http://www.OilSpillCommission.gov.

DATES: Monday, September 27, 2010, 9 a.m.-4:30 p.m., and Tuesday, September 28, 2010, 9 a.m.-4:30 p.m.

ADDRESSES: Washington Marriott Wardman Park, 2660 Woodley Park Road, NW., Washington, DC 20008; telephone number: 1-202-328-2000.

FOR FURTHER INFORMATION CONTACT: Christopher A. Smith, Designated Federal Officer, Mail Stop: FE-30, U.S. Department of Energy, 1000 Independence Avenue, SW., Washington DC 20585; telephone (202) 586-0716 or facsimile (202) 586-6221; e-mail: BPDeepwaterHorizonCommission@hq.doe.gov.

SUPPLEMENTARY INFORMATION: Background: The President directed that the Commission be established to examine the relevant facts and circumstances concerning the root cause of the BP Deepwater Horizon explosion, fire, and oil spill and to develop options to guard against, and mitigate the impact of, any oil spills associated with offshore drilling in the future.

The Commission is composed of seven members appointed by the President to serve as special Government employees. The members were selected because of their extensive scientific, legal, engineering, and environmental expertise, and their knowledge of issues pertaining to the oil and gas industry. Information on the Commission can be found at its Web site: http://www.OilSpillCommission.gov.

Purpose of the Meeting: Inform the Commission members about the relevant facts and circumstances concerning (1) spill response following the BP Deepwater Horizon oil disaster, and (2) impacts of the spill on the Gulf of Mexico and approaches to long-term restoration. The meeting will provide the Commission with the opportunity to hear presentations and statements from various experts and provide additional information for the Commission's consideration.

Tentative Agenda: The meeting is expected to start on September 27 at 9 a.m. Presentations to the Commission are expected to begin shortly thereafter and will conclude at approximately 4 p.m. The meeting will continue on September 28 at 9 a.m. with presentations to the Commission. Public comments can be made on Monday, September 27 and Tuesday, September 28 from 4 p.m. to 4:30 p.m., respectively. The final agenda will be available at the Commission's Web site: http://www.OilSpillCommission.gov.

Public Participation: The meeting is open to the public, with capacity and seats available on a first-come, first-serve basis. The Designated Federal Officer is empowered to conduct the meeting in a fashion that will facilitate the orderly conduct of business.

Approximately one-half hour will be reserved for public comments each day for a total of one hour. Time allotted per speaker will be three minutes. Opportunity for public comment will be available on September 27 and September 28, tentatively from 4 p.m. to 4:30 p.m. each day. Registration for those wishing to request an opportunity to speak opens onsite each day at 8 a.m. Speakers will register to speak on a first-come, first-serve basis each day. Members of the public wishing to provide oral comments are encouraged to provide a written copy of their comments for collection at the time of onsite registration.

Those not able to attend the meeting may view the meeting live on the Commission's Web site: http://www.OilSpillCommission.gov. Those individuals who are not able to attend the meeting, or who are not able to provide oral comments during the meeting, are invited to send a written statement to Christopher A. Smith, Mail Stop FE-30, U.S. Department of Energy, 1000 Independence Ave., SW., Washington DC 20585, or e-mail: BPDeepwaterHorizionCommission@hq.doe.gov.

Minutes: The minutes of the meeting will be available at the Commission's Web site: http://www.OilSpillCommission.gov or by contacting Mr. Smith. He may be reached at the postal or e-mail addresses above.

Accommodation for the hearing impaired: A sign language interpreter will be onsite for the duration of the meeting.

Issued in Washington, DC, on September 10, 2010.
Carol A. Matthews,
Committee Management Officer.

[FR Doc. 2010-23118 Filed 9-15-10; 8:45 am]

BILLING CODE 6450-01-P